DEPARTMENT OF COMMERCE

National Oceanic and Atmospheric Administration

[Docket No. 990125030-1039-02]

RIN 0648-ZA56

National Oyster Disease Research Program and Gulf Oyster Industry Initiative: Request for Proposals

AGENCY: National Sea Grant College Program, National Oceanic and Atmospheric Administration, Department of Commerce.

ACTION: Notice of request for proposals.

SUMMARY: The purpose of this notice is to advise the public that the National Sea Grant College Program (Sea Grant) is entertaining grant proposals to participate in innovative research, outreach and demonstration in two separate competitions: one to continue the National Oyster Disease Research Program (ODRP) and one to continue the Gulf Oyster Industry Program (GOIP). Approximately $1.85 million is available for the Oyster Disease Research Program and $.9 million for the Gulf Oyster Program in FY-2001 and a similar amount is expected for FY-2002. Therefore, two year proposals are being accepted. The National Oyster Disease Research Program focuses on diseases that are impacting the oyster populations of the US and the Gulf Oyster Industry Program focuses on the oyster industry problems of the Gulf Coast with special emphasis on the human health considerations within that industry.

DATES: Preliminary proposals must be received at the individual state Sea Grant Programs by 5:00 p.m. (local time) on April 4, 2001 and at the National Sea Grant Office by 5:00 pm (EST) April 9, 2001. After evaluation at the National Sea Grant Office (NSGO), some proposers will be encouraged to prepare full proposals, and those comments will be made available by April 23, 2001. Full proposals must be received at individual Sea Grant Programs by 5:00 p.m. (local time), May 28, 2001 and copies to the National Sea Grant Office by 5:00 pm (EDT) May 31, 2001. Written peer reviews from state Sea Grant programs must be at the National Sea Grant Office by 5:00 pm (EDT) on July 11, 2001. It is anticipated that full proposal funding decisions will be made by July 20, 2001. State Program Directors should allow enough time in their process to pass the proposals and other materials to the National Sea Grant Office by the dates indicated above. Please see list of state program addresses and phone numbers below.

ADDRESSES: For those applicants living in Sea Grant States, the preliminary proposals and full proposals must go to state Sea Grant programs at the addresses obtainable at the web address below. If the applicant is not from a Sea Grant state they should submit directly to: National Sea Grant College Program, R/SG, Attn: Oyster Disease and Gulf Oyster Industry Competition, Room 11838, NOAA, 1315 East-West Highway, Silver Spring, MD 20910, by the dates listed for submission to the National Sea Grant Office.

Electronic Addresses:

Sea Grant Directors—

http://www.nsgo.seagrant.org/SGDirectors.html;

Sea Grant Forms—

www.nsgo.seagrant.org/research/rfp/index.html#3

FOR FURTHER INFORMATION CONTACT: James P. McVey, Program Director for Aquaculture, or Mary Robinson, Secretary, National Sea Grant Office, 301-713-2451, facsimile 301-713-0799, e-mail-Jim.McVey@NOAA.gov.

SUPPLEMENTARY INFORMATION:

I. Program Authority

33 U.S.C. 1121 et seq.

Catalog of Federal Assistance Numbers: 11.417. Sea Grant Support.

II. Program Description

Background

National Oyster Disease Research Program: For more than two decades, oyster populations in the Chesapeake Bay and mid-Atlantic area have been increasingly battered by Dermo and MSX, two parasitic diseases for which there is no known remedy. In the Northeast, a new and as yet unidentified pathogen, called Juvenile Oyster Disease (JOD), has been taking a toll in hatcheries. On the West Coast, the Pacific Oyster has been subjected to puzzling summer mortalities.

The continuing decline of oyster stocks has been a catalyst for federal support of the Oyster Disease Research Program, a far-reaching effort by the National Oceanic and Atmospheric Administration to support innovative research that will lead to improved techniques for combating oyster disease. The Program began in 1990 with oversight by the NOAA National Marine Fisheries Service and its Chesapeake Bay Office, and is now administered by the National Sea Grant College Program.

The Oyster Disease Research Program is supporting efforts to reduce the impacts of oyster disease on oyster populations through a competitive research program coupled with outreach and management efforts. The ODRP is committed to the restoration of healthy populations of oysters in the nation's coastal waters.

Gulf Oyster Industry Program: The Gulf Oyster Industry Program is a long term, research-based program aimed at assisting the oyster industry in states adjoining the Gulf of Mexico to achieve full economic recovery and sustainable oyster production. This program will foster the participation of highly qualified academic researchers with industry and management agency personnel in an organized, comprehensive search for practical solutions to the most pressing problems of the Gulf oyster industry, including those relating to Vibrio vulnificus, a human pathogen, and other human health risks associated with raw molluscan shellfish.

Funding Availability and Priorities

Approximately $1.85 million in FY-2001 funding is available for the Oyster Disease competition and approximately $900,000 is available for the Gulf Oyster Industry competition. A similar amount is expected but not assured for both competitions in FY-2002, therefore, two-year projects will be considered. Funding will be on an annual basis, with grant renewal depending upon satisfactory demonstration of progress and availability of funds. Any two-year grant awards that are funded annually must have scopes of work that can be easily separated into annual increments of meaningful work that represents solid accomplishments if prospective funding is not made available to the applicant (i.e., the scopes of work for each funding period must produce identifiable and meaningful results in and of themselves).

The National Sea Grant College Program encourages proposals that address one of the following two program areas:

(1) National Oyster Disease Research Program (ODRP)

The official vision statement for the program is “to provide, through a coordinated research and outreach program, the technological basis for overcoming diseases which currently limit oyster production in the United States.” Even though ODRP emphasis is on diseases associated with the American oyster, proposals addressing disease problems of other oyster species will be considered as long as they relate to the priorities identified below.

In response to the progress reports and discussions that took place at the International Shellfish Restoration Conference, 16-18 November, 2000, this announcement will encourage partnerships for the transfer of basic research findings and new technology to the industry and to State shellfish managers where opportunity exists. Even though this announcement is encouraging projects of this type, Sea Grant recognizes that some of the best work being done on oyster disease involves basic research, which may not be ready for application, but which still contributes to a greater understanding of the fundamental nature of oyster diseases. Sea Grant will continue to support this basic research, while providing opportunity for those researchers that have already developed useful applications to receive consideration in the proposal process.

Primary consideration for funding will be given to proposals which address the specific priorities listed below. These priorities, originally determined at a national workshop in January, 1995 and further refined at the Oyster Disease Research Program session during the International Shellfish Restoration Conferences in 1996 and 2000, are not listed in any implied order of importance.

(1) Design, apply and evaluate disease management strategies for enhanced natural and aquaculture production and prediction (i.e. advanced forecasting)—there are many issues related to establishment of oyster sanctuaries, commercial oyster beds, oyster aquaculture, remote setting, use of natural seed, bottom cleaning before setting, cultch type, etc. which should be addressed as related to the impacts of disease. Activities that involve private sector, state restoration programs and extension/outreach in the implementation of research results and field trials using diagnostic methods, and other disease related technology and information for improved oyster disease management or oyster culture are appropriate under this priority.

(2) Parasite life cycles and the dynamics and mechanisms of transmission—investigations of selected aspects of the life cycles of oyster pathogens, especially MSX and Perkinsus, and the dynamics/mechanisms of disease transmission among host organisms.

(3) Host-parasite interactions—investigations which: determine how pathogens avoid host defense mechanisms, biochemically characterize Perkinsus strains, determine factors which confer virulence to Perkinsus strains, determine mechanisms of infection/entry into the host, or compare disease processes in oyster species are being sought.

(4) Mechanisms of disease resistance—continued emphasis is placed on studies concerning cellular/molecular mechanisms of disease infection and resistance in Crassostrea spp. and studies which determine the mechanisms of immune response in oysters. In addition, analysis of host defense factors, the development of molecular markers of disease and stress resistance, the development of immuno-stimulants, the application of chemo-therapeutics, and the identification of pathogen virulence and resistance mechanisms are needed; as are studies comparing resistance among diploid and polyploid oysters.

(5) Development and application of diagnostic methods for all oyster diseases—investigations which lead to the development and application of molecular techniques for disease diagnosis, and those which develop rapid field diagnostic methods are high priority. This program has already developed many diagnostic techniques for several disease organisms and new proposals will be expected to show a significant improvement over the techniques already developed.

(6) Environmental influences on disease processes—proposals which address the influence of biotic and abiotic factors upon host-parasite interactions are high priority. Also included are studies of the effects of eutrophication and other stresses upon disease dynamics, basic physiological and adaptation processes in both hosts and parasites, the mechanisms of the summer kill phenomenon, relationships between disease progression and climate, and the eco-physiology of Perkinsus.

Taxonomy, phylogeny and population studies of both hosts and parasites—emphasis continues on studies of variations in population susceptibility, host resistance and pathogen virulence. Also needed are investigations of the genetic structure of both hosts and parasites.

(8) Development and application of selective breeding strategies—We are seeking studies which develop molecular/biochemical markers for breeding resistance into oysters, as well as genome analysis and gene transfer techniques related to disease resistance. Evaluation of non-native oyster species genomes with regard to disease resistance under aquaculture conditions will also be considered.

(9) Development and testing of geographic and mathematical models to improve understanding of disease dynamics—A basic model now exists and new work in this area must clearly state how additional investment will take us to an even better level of prediction or disease management.

(2) Gulf Oyster Industry Program

The Gulf Oyster Industry Program was created as a result of information provided by Gulf oyster industry leaders, state resource managers, and academic researchers spanning the five-state Gulf region. Specific needs identified by these individuals were subsumed into 12 concise issue statements as a result of a workshop held in New Orleans, Louisiana in 1997 and reaffirmed in 2000. This list of research and extension needs and proposed responses was presented to a select Industry Advisory Panel at the Gulf Oyster Industry Program Workshop conducted in New Orleans, La., on February 28, 1998, and again in 2000 and the group was asked to establish research priorities based on that framework. Through an ensuing discussion, the high-priorities were delineated as shown below:

(1) At-Risk Consumer Education and Evaluation—This RFP seeks proposals that will develop, implement and/or evaluate a Vibrio vulnificus Education Program, including, but not limited to: at-risk consumer foundations and associations, pharmacies, alcohol treatment centers, wound infection issues, media relations, and public perceptions.

(2) Human Pathogenic Organisms—Raw oysters have the potential to cause human illness due to the presence of naturally occurring opportunistic pathogens (e.g., Vibrio vulnificus), naturally occurring pathogens that become a concern only when present at elevated levels (e.g., Vibrio cholrea or Vibrio parahaemolyticus), and which pathogens are related to contaminated growing areas (e.g., Norwalk and Norwalk-like viruses, Salmonella sp. and Shigella). This potential has created a perception that consumption of raw oysters places a large number of people at risk of contracting illnesses from opportunistic bacteria, toxins, and viruses. This RFP also seeks proposals that will develop new means of treating shell stock to eliminate human pathogens, and, develop or investigate new technology, such as ionized water, for depurating oysters of human pathogens.

(3) Post-Harvest Treatment (PHT) Process Evaluation and Education—This RFP seeks proposals that will develop and evaluate PHT demonstration projects, including, but not limited to, providing PHT product in demonstration projects to wholesalers & retailers, and, conducting economic analyses regarding the changes to current handling and processing practices.

(4) Consumer Attitudes and Preferences—The oyster industry and regulators lack knowledge concerning the attitudes, preferences, and other characteristics of potential oyster consumers. Learning about consumers' attitudes and preferences will help increase demand for new PHT and traditional oyster products. This RFP seeks proposals that will determine oyster consumer demographics, consumption patterns, attitudes and preferences, develop media-relations protocol for the oyster industry, conduct media-relations workshops for the Gulf oyster industry to improve communication skills, develop media-relations protocol or decision tree for researchers and state regulatory personnel, and, determine the characteristics of the market for Gulf oysters, including sales (region, size of establishment, average sales, etc.), distribution, and product forms.

(5) Harmful Algal Blooms (HAB)/Red Tide—HAB causes lengthy public health closures of shellfish growing waters, halting production for weeks and causing severe economic hardship in the impacted area. This RFP seeks proposals to develop rapid detection methods for toxic marine algae, especially G. breve, conduct HAB research advisory and outreach activities in the Gulf states, and, conduct a workshop for state and federal shellfish sanitation personnel and researchers to include new monitoring, diagnostic, and management protocols for use in the reopening of shellfish growing waters closed by HAB.

(6) Economic and Legal Impacts of Regulatory Action—The regulation of molluscan shellfish is unique from all other foods. Regulatory action either by state or federal public health agencies, and subsequent news media responses can have severe economic and legal impacts on the harvesting, processing and marketing of shellfish, such as Gulf oysters. This RFP seeks proposals that analyze the effects of inaccurate media reports on sales, the delisting of a processor or state from the Interstate Certified Shellfish Shippers List, the ramifications from product disparagement, and/or, the impact of the oyster and support industries on demand for labor and the coastal economies of the Gulf region.

(7) Coastal Restoration/Freshwater Diversion—Coastal land loss, deterioration of estuarine habitat, and coastal restoration programs, e.g., freshwater diversions and sedimentation projects, are causing widespread dislocations and conflicts with established oyster-producing operations. This RFP seeks proposals that educate oyster men, public officials, and citizens regarding the economic role of the oyster industry and the economic costs of displacing and relocating oyster bedding operations, and/or, conduct demonstration projects for oyster farmers to show them the best strategy to relocate their oyster farms that are damaged by coastal restoration projects.

(8) Labor and Mechanization—The traditional labor base that supports oyster growing, harvesting, and processing is shrinking rapidly, with consequently declining production and increased costs. This RFP seeks proposals that investigate and develop cost-effective mechanized approaches to oyster harvesting, and processing, including, but not limited to, developing new means to package and handle oyster shell stock and shucked oysters, including large re-usable, low-cost containerization of shell stock for vessels to trucks, handling equipment to move large containers of shell stock; and, cheaper containers for shucked oysters.

(9) Oyster Diseases—Oyster diseases are having a major impact on Gulf Coast oyster stocks and for the most part this topic will be covered under the Oyster Disease topic in this solicitation. However, oyster disease research specific to the Gulf Coast will be considered in this solicitation.

(10) Genetics and Oyster Hatchery technology—These technologies are needed to develop cost-effective hatchery/nursery operations to augment wild oyster production with specialized strains. This RFP seeks proposals that develop polyploid broodstock for the Gulf Coast, disease resistant transgenic oysters, and/or, address practical problems which may be common to oyster production in general, but especially acute in a farming situation, e.g., biofouling, predation, disease, etc.

Primary consideration for funding will be given to proposals that address the topics listed above. Although the Industry Advisory Panel has indicated a clear preference for projects with a technological focus, more fundamental scientific studies may be supported when clear linkages between scientific findings and their incorporation into technological advances and management practices can be, demonstrated.

III. Eligibility

Eligible applicants include institutions of higher education, other non-profits, commercial organizations, state, local and Indian tribal governments. For the Oyster Disease Research topic National Marine Fishery Services personnel may participate in joint efforts with non-federal persons or groups in these projects as long as non-Federal matching fund requirements are met and these non-federal persons or groups are the principal investigators and have applied and successfully competed for oyster disease research funds through the process outlined in this announcement.

Note: NMFS personnel must demonstrate that they have been authorized to participate in this activity. Should funds be requested as part of the NMFS personnel effort, NMFS must demonstrate that they have legal authority to receive these funds in excess of their appropriation.

Investigators submitting proposals in response to this announcement are strongly encouraged to develop inter-institutional, inter-disciplinary research teams in the form of single, integrated proposals or as individual proposals that are clearly linked together. Such collaborative efforts will be factored into the final funding decision.

IV. Evaluation Criteria

A. The evaluation criteria for both preproposals and full proposals submitted for support under the Oyster Disease Research Program are as follows:

(1) Impact of proposed project (35 points)—Significance of the ODRP problem that is being addressed and the level of expected improvement of oyster industry production or technology as a result of funding or the need for this activity as a necessary step toward having a positive impact on future improvement of technology or production.

(2) Scientific or Professional Merit (30 points)—Degree to which the activity will advance the state of the science or state-or-the-art methods.

(3) Field-Scale trials (5 points)—Degree to which industry and state oyster managers are using or will use technology or products developed through applied research under actual field conditions.

(4) User Relationships, partnerships, collaborative efforts and leveraging (15 points)—Degree to which the potential users of the results have been involved in the planning of the activity, will be involved in the execution of the activity and/or are providing matching funds. Establishment of effective partnerships and collaborations that leverage funds.

(5) Innovativeness (10 points)—Degree to which new approaches to solving problems and exploiting opportunities in oyster disease research, or in public outreach on such issues will be employed, or the degree to which the activity will focus on new types of important or potentially important resources and issues.

(6) Qualifications and Past Record of investigators (5 points)—Degree to which investigators are qualified by education, training, and/or experience to execute the proposed activity; record of achievement with previous funding.

B. The evaluation criteria for both preproposals and full proposals submitted for support under the Gulf Coast Oyster Industry Initiative are as follows:

(1) Impact of proposed project (40 points)—Significance of the GCOIP that will be addressed; the effect this activity will have on the improvement of oyster industry production or technology as a result of funding or the need for this activity as a necessary step toward having a positive impact on future improvement of technology or production.

(2) Field-Scale Trials (10 points)—Degree to which industry and state oyster managers are using or will use technology or products developed through applied research under actual field or industry conditions.

(3) Scientific or Professional Merit (20 points)—Degree to which the activity will advance the state of the science or discipline through use and extension of state-of-the-art methods.

(4) User Relationships, partnerships, collaborations and leveraging (15 points)—Degree to which potential users of the results of the proposed activity have been involved in planning the activity, will be involved in the execution of the activity, and/or are providing matching funds. Establishment of effective partnerships and collaborations that leverage funds.

(5) Innovativeness (10 points)—Degree to which new approaches to solving problems and exploiting opportunities in Gulf Coast Oyster Industry issues, or in public outreach on such issues will be employed, or the degree to which the activity will focus on new types of important or potentially important resources and issues.

(6) Qualifications and Past Record of Investigators (5 points)—Degree to which investigators are qualified by education, training, and/or experience to execute the proposed activity; record of achievement with previous funding.

V. Selection Procedures

All preliminary proposals will be evaluated by selection panels constituted by the National Sea Grant Office for each of the oyster programs. A determination will be made as to the preproposal's appropriateness according to the list of priorities listed above for each of the two competitions. Points will be assigned to each of the evaluation criteria relative to the priority areas listed by the review panels with a total of 100 points possible for all criteria in the respective competitions. Full proposals will be requested of those preliminary proposals that are rated above a certain score to be determined by the panel. Invitation to submit a full proposal does not constitute an indication that the proposal will be funded. Interested parties who are not invited to submit full proposals will not be precluded from submitting full proposals if they have submitted a preliminary proposal in accordance with the procedures described below. A list of those projects already funded in previous years is available from the National Sea Grant Office.

Full proposals will be received at the individual state Sea Grant programs or at the National Sea Grant Office if from a non-Sea Grant State applicant, and sent to peer reviewers for written reviews. The National Sea Grant Office will obtain the written reviews for proposals from Non-Sea Grant states. Complete full proposals and their written reviews will be sent from the state Sea Grant programs to the National Sea Grant Office to be ranked in accordance with the assigned weights of the above evaluation criteria by one of two independent peer review panels consisting of government, academic, and industry experts; one panel will review the Oyster Disease Research Program and a second panel will review the Gulf Oyster Industry Program. The panel members of each panel will provide individual evaluations on each proposal, but there will be no consensus advice. Proposals not receiving an average score of 81 points or above, will not be given further consideration. For the Proposals rated 81 points and higher the Sea Grant Program Managers will: (a) Ascertain which proposals best meet the priorities, and do not substantially duplicate other projects that are currently funded by NOAA or other federal agencies; (b) select the proposals to be funded; (c) determine which components of the selected projects will be funded; (d) determine the total duration of funding for each proposal; and (e) determine the amount of funds available for each proposal, hence, awards may not necessarily be made to the highest-scored proposals. Investigators may be asked to modify objectives, work plans, or budgets prior to approval of the award. Subsequent grant administration procedures will be in accordance with current NOAA grants procedures. A summary statement of the scientific review by the peer panel will be provided to each applicant.

Applications must reflect the total budget necessary to accomplish the project, and be matched by one dollar of non-federal funds for each two dollars of federal funds. The appropriateness of all cost-sharing will be determined on the basis of guidance provided in applicable Federal cost principles. The applicants will be bound by the percentage of cost sharing reflected in the grant award.

VI. Instructions for Application

What To Submit

Preliminary Proposal Guidelines

To prevent the expenditure of effort that may not be successful, proposers must first submit preliminary proposals. Preliminary proposals must be single- or double-spaced, typewritten in at least a 10 point font, and printed on metric A4 (210mm × 297mm) or 8½″ × 11″ paper. The following information should be included:

(1) Signed title page: The title page should be signed by the Principal Investigator and should clearly identify the program area being addressed by starting the project title with either “Oyster Disease Research Program” or “Gulf Oyster Industry Initiative.” Principal Investigators and collaborators should be identified by affiliation and contact information. The total amount of Federal funds and matching funds being requested or provided should be listed for each budget period, as well as the source of the matching funds. Preliminary proposals must include matching fund equivalent to at least 50% of the Federal funds requested.

(2) A concise (2-page limit) description of the project, its experimental design, its expected output or products, the anticipated users of the information, and its anticipated impact. Proposers should use the Evaluation Criteria for additional guidance in preparing the preliminary proposals.

(3) Resumes (1-page limit) of the Principal Investigators.

(4) Proposers are encouraged (but not required) to include a separate page suggesting reviewers that the proposers believe are especially well qualified to review the proposal. Proposers may also designate persons they would prefer not review the proposal, indicating why. These suggestions will be considered during the review process.

The original and two copies of the preliminary proposals must be submitted to the state Sea Grant Program Director or, for investigators in non-Sea Grant states, directly to the National Sea Grant Office (NSGO) by the times and dates listed under the “Dates” section of this announcement. Preliminary proposals submitted to state Sea Grant Programs will be forwarded, along with a cover letter, to the NSGO by the dates indicated in this announcement.

Full Proposal Guidelines

Each full proposal should include the items listed below. All pages should be single- or double-spaced, typewritten in at least a 10-point font, and printed on metric A4 (210 mm × 297 mm) or 8½″ × 11″ paper. Brevity will assist reviewers and program staff in dealing effectively with proposals. Therefore, the Project Description may not exceed 15 pages. Tables and visual materials, including charts, graphs, maps, photographs and other pictorial presentations are included in the 15-page limitation. Conformance to the 15-page limitation will be strictly enforced. All information needed for review of the proposal should be included in the main text; no appendices are permitted.

(1) Signed title page: The title page should be signed by the Principal Investigator and the institutional representative and should clearly identify the program area being addressed by starting the project title with either Oyster Disease Research Program or Gulf Oyster Industry Initiative, as appropriate. The Principal Investigator and institutional representative should be identified by full name, title, organization, telephone number, e-mail address, and mailing address. The total amount of Federal funds and matching funds being requested should be listed for each budget period.

(2) Project Summary: This information is very important. It is critical that the project summary accurately describe the research being proposed and convey all essential elements of the research. The project summary should include: 1. Title: Use the exact title as it appears in the rest of the application. 2. Investigators: List the names and affiliates of each investigator who will significantly contribute to the project. Start with the Principal Investigator. 3. Funding request for each year of the project, including matching funds if appropriate. 4. Project Period: Start and completion dates. Proposals should request a start date of October 1, 2001. 5. Project Summary: This should include the rationale for the project, the scientific or technical objectives and/or hypotheses to be tested, and a brief summary of work to be completed.

(3) Projected Description (15-page limit):

Introduction/Background/Justification: Subjects that the investigator(s) may wish to include in this section are: (a) Current state of knowledge; (b) contributions that the study will make to the particular discipline or subject area; and (c) contributions the study will make toward addressing the problems of oyster disease or Gulf oyster industry issues.

Research or Technical Plan: (a) Objectives to be achieved, hypotheses to be tested; (b) Experimental design and statistical analysis to be used; (c) Plan of work discuss how stated project objectives will be achieved; and (d) Role of project personnel.

Output: Describe the project outputs that will enhance the Nation's ability to improve the status of oysters and the oyster industry.

Coordination with other Program Elements: Describe any coordination with other agency programs or ongoing research efforts. Describe any other proposals that are essential to the success of this proposal.

Reference and Literature Citations: Should be included but will not be counted in the 15 page project description limit.

(4) Budget and Budget Justification: There should be a separate budget for each year of the project as well as a cumulative annual budget for the entire project. Applicants are encouraged to use the Sea Grant Budget Form 90-4, but may use their own form as long as it provides the same information as the Sea Grant form. Subcontracts should have a separate budget page. Matching funds must be indicated; failure to provide required matching funds will result in the proposal being rejected without review. Each annual budget should include a separate budget justification page that itemizes all budget items in sufficient detail to enable reviewers to evaluate the appropriateness of the funding requested. Please pay special attention to any travel, supply or equipment budgets and provide details. For proposals to either of the competition categories the total dollar amount of indirect costs must not exceed the indirect cost rate negotiated and approved by the cognizant Federal agency prior to the proposed effective date of the award or 100 percent of the total proposed direct costs dollar amount in the application, whichever is less.

(5) Current and Pending Support: Applicants must provide information on all current and pending Federal support for ongoing projects and proposals, including subsequent funding in the case of continuing grants. The number of person-months per year to be devoted to the projects must be stated, regardless of source of support. Similar information must be provided for all proposals already submitted or submitted concurrently to other possible Federal sponsors, including those within NOAA.

(6) Vitae (2 pages maximum per investigator)

(7) Standard Application Forms: See Address section for web address for forms. Forms can also be obtained from state Sea Grant programs or the National Sea Grant Office. The following forms must be included:

(a) Standard Forms 424, Application for Federal Assistance, and 424B, Assurances—Non-Construction Programs, (Rev 4-88). Applications should clearly identify the program area being addressed by starting the project title with either Oyster Disease Research Program or Gulf Oyster Industry Program, as appropriate. Please note that both the Principal Investigator and an administrative contact should be identified in Section 5 of the SF424. For Section 10, applicants for the National Oyster Disease Research Program and Gulf Oyster Industry Initiative program areas should enter “11.417” for he CFDA Number and “Sea Grant Support” for the title. The form must contain the original signature of an authorized representative of the applying institution.

(b) Primary Applicant Certifications. All primary applicants must submit a completed Form CD-511, “Certifications Regarding Debarment, Suspension and Other Responsibility Matters; Drug-Free Workplace Requirements and Lobbying,” and the following explanations are hereby provided:

(i) Nonprocurement Debarment and Suspension. Prospective participants (as defined at 15 CFR part 26, Section 105) are subject to 15 CFR part 26, “Nonprocurement Debarment and Suspension” and the related section of the certification form prescribed above applies;

(ii) Drug-Free Workplace. Grantees (as defined at 15 CFR Part 26, Section 605) are subject to 15 CFR Part 26, Subpart F, “Government wide Requirements for Drug-Free Workplace (Grants)” and the related section of the certification form prescribed above applies;

(iii) Anti-Lobbying. Persons (as defined at 15 CFR part 28, section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, and

(iv) Anti-Lobbying Disclosures. Any applicant that has paid or will pay for lobbying using any funds must submit an SF-LLL, “Disclosure of Lobbying Activities,” as required under 15 CFR part 28, Appendix B.

(c) Lower Tier Certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to the Department of Commerce (DOC). SF-LLL submitted by any tier recipient or subrecipient should be submitted to DOC in accordance with the instructions contained in the award document.

How To Submit

Although investigators are not required to submit more than the original and two copies of the proposal, the normal review process requires ten copies. Investigators are encourage to submit sufficient proposal copies for the full review process if they wish all reviewers to receive color, unusually sized (not 8.5 × 11″), or otherwise unusual materials submitted as part of the proposal. Only the original and two copies of the Federally required forms are needed.

Federal Policies and Procedures

Grant recipients and subrecipients are subject to all Federal laws and Federal and DOC policies, regulations, and procedures applicable to Federal financial assistance awards. Unsatisfactory performance under prior Federal awards may result in an application not being considered for funding.

If applicants incur any costs prior to an award being made, they do so solely at their own risk of not being reimbursed by the Government. Notwithstanding any verbal or written assurance that may have been received, these is no obligation on the part of the Department of Commerce to cover pre-award costs.

Applicants are hereby notified that they are encouraged, to the extent feasible, to purchase American-made products with funding provided under this program.

If an application is selected for funding, the Department of Commerce has no obligation to provide any additional future funding in connection with that award. Renewal of an award to increase funding or extend the period of performance is at the total discretion of the Department of Commerce.

No award of Federal funds shall be made to a applicant who has an outstanding delinquent Federal debt or fine until either:

a. The delinquent account is paid in full,

b. A negotiated repayment schedule is established and at least one payment is receive, or

c. Other arrangements satisfactory to Department of Commerce are made.

All non-profit and for-profit applicants are subject to a name check review process. Name checks are intended to reveal if any key individuals associated with the applicant have been convicted of or are presently facing criminal charges such as fraud, theft, perjury, or other matters which significantly reflect on the applicant's management honestly or financial integrity.

Pursuant to Executive Orders 12876, 12900, and 13021, the Department of Commerce, National Oceanic and Atmospheric Administration (DOC/NOAA) is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, strengthen the nation's capacity to provide high-quality education, and to increase opportunities for MSIs to participate in and benefit from Federal Financial Assistance programs. DOC/NOAA encourages all applicants to include meaningful participation of MSIs. Institutions eligible to be considered MSIs are listed at the following Internet website: http://www.ed.gov/offices/OCR/99minin.html.

A false statement on an application is grounds for denial or termination of funds and grounds for possible punishment by a fine or imprisonment as provided in 18 U.S.C. 1001.

Applications under this program are subject to Executive Order 12372, “Intergovernmental Review of Federal Programs.”

Prior notice and an opportunity for public comments are not required by the Administrative Procedure Act or any other law for this notice concerning grants, benefits, and contracts. Therefore, a regulatory flexibility analysis is not required for purposes of the Regulatory Flexibility Act.

This action has been determined to be not significant for purposes of Executive Order 12866.

This notice contains collection-of-

information requirements subject to the Paperwork Reduction Act. The Sea Grant Project Summary Form and the Sea Grant Budget Form have been approved under the Office of Management and Budget (OMB) Control Number 0648-0362, with estimated times per response of 20 and 15 minutes, respectively. The use of Standard Forms 424, 424B, and the SF-LLL have been approved by OMB under the respective control numbers 0348-0043, 0348-0040 and 0348-0046. The response time estimates above include the time for reviewing instructions, searching existing data sources, gathering and maintaining the data needed, and completed and reviewing the collection of information. Send comments on these estimates or any other estimates of these collections to the National Sea Grant Office/NOAA, 1315 East-West Highway, Silver Spring, Maryland 20910 and to the Office of Information and Regulatory Affairs, Office of Management and Budget, Washington, DC 20503 (Attention: NOAA Desk Officer). Notwithstanding any other provision of the law, no person is required to respond to, nor shall any person be subject to a penalty for failure to comply with, a collection of information subject to the requirements of the Paperwork Reduction Act, unless that collection of information displays a currently valid OMB Control Number.

Dated: February 23, 2001.
Louisa Koch,
Deputy Assistant Administrator, Oceanic and Atmospheric Research, National Oceanic and Atmospheric Administration.

[FR Doc. 01-5264 Filed 3-2-01; 8:45 am]

BILLING CODE 3510-KA-M